NUCLEAR REGULATORY COMMISSION

Advisory Committee on Reactor Safeguards (ACRS); ACRS Procedures for Meetings

Background

This notice describes procedures to be followed with respect to meetings conducted by the U.S. Nuclear Regulatory Commission's (NRC's) Advisory Committee on Reactor Safeguards (ACRS) pursuant to the Federal Advisory Committee Act (FACA). The revisions to Subcommittee procedures are made to accommodate direction contained in Executive Order (E.O.) 14215, “Ensuring Accountability for All Agencies.” These procedures are set forth so that they may be incorporated by reference in future notices for individual meetings.

The ACRS is a statutory advisory Committee established by Congress to review and report on nuclear safety matters and applications for the licensing of nuclear facilities. The Committee's reports become part of the public record. E.O. 14215 contains applicable directives regarding the Office of Management and Budget's Office of Information and Regulatory Affairs (OIRA) review of Agency regulatory actions.

The ACRS Full Committee meetings are conducted in accordance with FACA because these meetings involve Committee deliberation on recommendations and advice provided to the U.S. Nuclear Regulatory Commission. Full Committee meetings are normally open to the public and provide opportunities for oral or written statements from members of the public to be considered as part of the Committee's information gathering process. A means for the public to access the meetings virtually will be provided as described below. ACRS reviews do not normally encompass matters pertaining to environmental impacts other than those related to radiological safety.

The ACRS meetings are not adjudicatory hearings such as those conducted by the NRC's Atomic Safety and Licensing Board Panel as part of the Commission's licensing process.

ACRS Subcommittee meetings are not subject to FACA and changes to the procedures for conducting these meetings are detailed below.

General Rules Regarding ACRS Full Committee Meetings

An agenda will be published in the Federal Register and on the NRC and ACRS public websites for each Full Committee meeting. There may be a need to make changes to the agenda to facilitate the conduct of the meeting. The Chairman of the Committee is empowered to conduct the meeting in a manner that, in their judgement, will facilitate the orderly conduct of business, including making provisions to continue the discussion of matters not completed on the scheduled day on another day of the same meeting. Persons planning to attend the meeting may contact the Designated Federal Officer (DFO) specified in the Federal Register notice prior to the meeting to be advised of any changes to the agenda that may have occurred.

The following requirements shall apply to public participation in ACRS Full Committee meetings:

(a) Persons who plan to submit written comments at the meeting should send their comments via email to the DFO before the beginning of the meeting. Persons who cannot attend the meeting but wish to submit comments for the record regarding the agenda items may do so by sending their comments via email or by transmitting a readily reproducible copy addressed to the DFO specified in the Federal Register notice, care of the Advisory Committee on Reactor Safeguards, U.S. Nuclear Regulatory Commission, Washington, DC 20555-0001. Email is preferred. Comments should be limited to items being considered by the Committee. In order to ensure that the comments can be considered by the Committee prior to the meeting, the comments should be in the possession of the DFO 5 days prior to the meeting to allow time for reproduction and distribution.

(b) Persons desiring to make oral statements at the meeting should make a request to do so to the DFO before the meeting, identifying the topic(s) on which oral statements will be made and the amount of time needed for presentation so that orderly arrangements can be made. The Committee will hear oral statements on topics being reviewed at an appropriate time during the meeting as scheduled by the Chairman.

(c) Information regarding topics to be discussed, changes to the agenda, whether the meeting has been canceled or rescheduled, and the time allotted to present oral statements can be obtained by contacting the DFO.

(d) The use of still, motion picture, and television cameras will be permitted at the discretion of the Chairman and in accordance with NRC procedures and policies, and subject to the condition that the use of such equipment will not interfere with the conduct of the meeting. The DFO will have to be notified prior to the meeting and will authorize the use of such equipment after consultation with the Chairman. The use of such equipment will be restricted as is necessary to protect proprietary or privileged information that may be in documents, folders, etc., in the meeting room. Electronic recordings will be permitted only during those portions of the meeting that are open to the public.

(e) A transcript will be kept for certain open portions of the meeting and will be available on the NRC and ACRS public websites and in the NRC Public Document Room (PDR), One White Flint North, Room O-1F21, 11555 Rockville Pike, Rockville, Maryland 20852-2738. A copy of the certified minutes of the meeting will be available at the same location three months following the meeting. Copies may be obtained upon payment of appropriate reproduction charges. ACRS meeting agendas, transcripts, and letter reports are available at pdr@nrc.gov, or by calling the PDR at 1-800-397-4209, or from Agencywide Documents Access and Management System (ADAMS) which is accessible from the NRC website at https://www.nrc.gov/reading-rm/adams.html or https://www.nrc.gov/reading-rm/doc-collections/ACRS/agenda/.

(f) Virtual attendance opportunities will be made available to public attendees for observing open sessions of ACRS meetings. The relevant information will be included in the agenda on the NRC and ACRS public websites or may be obtained from the cognizant DFO.

ACRS Subcommittee Meetings

In accordance with FACA, the agency is not required to apply the FACA requirements to meetings conducted by the Subcommittees of the NRC Advisory Committees if the Subcommittee's recommendations would be independently reviewed by its parent Committee (which is always the case). Subcommittee meetings are held to conduct preparatory and information gathering activities and work that will be the subject of deliberations at a Full Committee meeting. Advice provided to the Commission by the ACRS will only be approved in a Full Committee meeting.

In an effort to maintain transparency of Subcommittee activities, the ACRS will conduct its Subcommittee meetings in accordance with the Commission's Policy on Enhancing Participation in NRC Public Meetings (86 FR 14964). In most cases, the ACRS Subcommittee meetings will be categorized as Observation Meetings. The purpose of this type of meeting is for the NRC to meet with representatives from one or more groups in an open and transparent manner to discuss regulatory and technical matters. In the Subcommittee meeting, observers will have an opportunity to observe the ACRS performing its statutory function or discussing technical issues. Members of the public will have an opportunity to make comments about the issues discussed following the business portion of the meeting. The NRC and ACRS public meeting websites, which contain meeting announcements, agendas, and meeting materials, may be found at www.nrc.gov/pmns/mtg and www.nrc.gov/reading-rm/doc-collections/acrs/agenda. A meeting notice will be published at www.nrc.gov/pmns/mtg at least 10 calendar days in advance of any ACRS Subcommittee meeting. Consistent with past practice, members of the public who desire to provide written or oral input to the Subcommittee may continue to do so and should contact the DFO five days prior to the meeting, as practicable. When Subcommittee meetings are held at locations other than at NRC facilities, reproduction facilities may not be available at a reasonable cost. Accordingly, 15 copies of the materials to be used during the meeting should be provided for distribution at such meetings.

ACRS Member or Subcommittee Engagements With the NRC Staff

When an ACRS Member or Subcommittee engages only with the NRC staff on predecisional or otherwise sensitive information, such as predecisional rulemaking language or draft implementing guidance prior to the document being made available to the public, the ACRS will not issue a public meeting notice because it does not meet any category of meeting identified in the Commission's Policy on Enhancing Participation in NRC Public Meetings.

Special Provisions for Closing ACRS Meetings

If it is necessary to hold closed sessions for the purpose of discussing matters involving proprietary or otherwise sensitive information, the agenda will identify the portions of the agenda that will be closed. With regard to discussions involving proprietary information, persons with agreements permitting access to such information may attend those portions of the ACRS meetings where this material is being discussed upon confirmation that such agreements are effective and related to the material being discussed. The owner of the proprietary information will be consulted prior to the start of the meeting regarding who may observe such discussions.

If an agreement exists, the DFO should be informed of such an agreement at least five working days prior to the meeting so that it can be confirmed, and a determination can be made regarding the applicability of the agreement to the material that will be discussed during the meeting. The minimum information provided should include information regarding the date of the agreement, the scope of material included in the agreement, the project or projects involved, and the names and titles of the persons signing the agreement. Additional information may be requested to identify the specific agreement involved. A copy of the executed agreement should be provided to the DFO prior to the beginning of the meeting for admittance to the closed session.

Full Committee and Subcommittee meetings also may be closed to discuss information that is classified, personnel-related, or otherwise sensitive as listed in 5 U.S. Code § 552b. In addition, sessions with ACRS member attendance may not be open to the public for the purposes of training, conduct of retreats, international conferences or other activities that do not involve matters about which the Committee intends to deliberate for the purpose of providing advice to the Commission.

Dated: July 17, 2025.
For the Nuclear Regulatory Commission.
Russell E. Chazell,
Federal Advisory Committee Management Officer, Office of the Secretary.

[FR Doc. 2025-13691 Filed 7-21-25; 8:45 am]

BILLING CODE 7590-01-P